FEDERAL COMMUNICATIONS COMMISSION

Notice of Public Information Collection(s) Being Submitted to OMB for Review and Approval

December 19, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 29, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0929.

Title: Application for Multipoint Distribution Service or Instructional Television Fixed Service Modification to Main Station, Booster Station, Response Station Hub, or 125 KHz (I Channels) Point to Multipoint Transmissions.

Form Number: FCC 331.

Type of Review: Extension of a currently approved collection.

Number of Respondents: 4,000.

Estimate Time Per Response: 2 hours.

Frequency of Response: On occasion and “open window” reporting requirements.

Total Annual Burden: 8,000 hours.

Total Annual Costs: 19,465.

Needs and Uses: On September 17, 1998, the FCC adopted a Report and Order (R&O) in MM Docket No. 97-217. The rule changes in this R&O enhance the flexibility of MDS and ITFS operations through facilitated use of response stations, use of cellular configurations, use of signal booster stations with program origination capability, and use of variable bandwidth (subchanneling or superchanneling). Thus, MDS and ITFS frequencies in the 2 GHz band may be used by licensees, or leased to operators, for broadband data, video, or voice transmissions to and/or from subscribers' premises, promoting the competitive position of the relevant industry, augmenting the educational uses of these frequencies by ITFS entities, and increasing services to consumers. The FCC has adopted an initial one-week filing window, in which it will accept FCC Form 331 applications from MDS and ITFS licensees. Following this initial filing window, the FCC will accept FCC Form 331 applications via a rolling, one-day filing window. FCC Form 331 may be used by licensees of MDS, MMDS, ITFS, or Commercial ITFS to apply for modification to main station, response station hub, high-power signal booster station, notification of low-power signal booster station, or 125 KHz (I channel(s)) point to multipoint transmissions.

OMB Control Number: 3060-XXXX.

Title: Section 79.2, Accessibility of Programming Providing Emergency Information.

Form Number: N/A.

Type of Review: New collection.

Number of Respondents: 200.

Estimate Time Per Response: 1 to 2 hours.

Frequency of Response: On occasion reporting requirements.

Total Annual Burden: 275 hours.

Total Annual Costs: $5,000.

Needs and Uses: On July 21, 2000, the FCC adopted a Report and Order (R&O), MM Docket No. 99-339, that adopted video description rules to make television more accessible to persons with visual disabilities. Among other things, the R&O requires any broadcast station or multiple video programming distributor (MVPD) that provides local emergency information as part of a regularly schedules newscast, or as part of a newscast that interrupts regularly scheduled programming, to make the critical details of the information accessible to persons with visual disabilities in the affected local area. Any broadcast station or MVPD that provides emergency information through a crawl or scroll must also accompany that information with an aural tone to alert persons with disabilities that the station or MVPD is providing this information. In addition, 47 CFR Section 79(c) contains a complaint procedure—a complaint alleging a violation of this section may be transmitted to the FCC. The FCC then will notify the video programming distributor of the complaint, giving the distributor 30 days to reply to the complaint.

Federal Communications Commission.
Magalie Roman Salas,
Secretary.

[FR Doc. 00-33040 Filed 12-27-00; 8:45 am]

BILLING CODE 6712-01-U